DEPARTMENT OF COMMERCE

Foreign-Trade Zones Board

[Docket No. 54-2002]

Foreign-Trade Zone 202: Application for Expansion and Reorganization Amendment of Application

Notice is hereby given that the application of the Board of Harbor Commissioners of the City of Los Angeles, grantee of FTZ 202, for authority to expand and reorganize FTZ 202 in the Los Angeles, California, area (Doc. 54-2002, 67 FR 72643, 12/6/02, and as amended, 68 FR 17342, 4/9/03), has been further amended to include a parcel (0.39 acres, 10,833 sq. ft. bldg.) at the Howard Hartry, Inc. facility as part of Site 1 at the Port of Los Angeles Harbor complex and to include a parcel (2.53 acres, 110,092 sq. ft. bldg.) at the Exel Global Logistics, Inc. facility as part of Site 2 at the Los Angeles International Airport. The application otherwise remains unchanged.

Comments on the change may be submitted to the Foreign-Trade Zones Board, U.S. Department of Commerce, FCB—Suite 4100W, 1401 Constitution Avenue, NW., Washington, DC 20230, by January 30, 2004.

Dated: January 7, 2004.
Dennis Puccinelli,
Executive Secretary.

[FR Doc. 04-703 Filed 1-12-04; 8:45 am]

BILLING CODE 3510-DS-P